DEPARTMENT OF TRANSPORTATION

Federal Aviation Administration

14 CFR Part 39

[Docket No. FAA-2013-0826; Directorate Identifier 2011-SW-046-AD; Amendment 39-17788; AD 2014-05-15]

RIN 2120-AA64

Airworthiness Directives; Airbus Helicopters (Type Certificate Previously Held by Eurocopter France) (Airbus Helicopters)

AGENCY: Federal Aviation Administration (FAA), DOT.

ACTION: Final rule.

SUMMARY: We are adopting a new airworthiness directive (AD) for Airbus Helicopters Model AS332C, AS332L, AS332L1, AS332L2, and SA330J helicopters. This AD prohibits use of the hydraulic hoist in helicopters equipped with certain parts and configurations until a hoist beam lower fitting protector is installed. This AD was prompted by a report that the hoist cable jammed during a rescue at sea. The actions of this AD are intended to prevent the hoist cable from jamming and subsequent cable failure, which could result in injury and damage to the helicopter.

DATES: This AD is effective April 15, 2014.

The Director of the Federal Register approved the incorporation by reference of certain documents listed in this AD as of April 15, 2014.

ADDRESSES: For service information identified in this AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the European Aviation Safety Agency (EASA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Robert Grant, Aviation Safety Engineer, Safety Management Group, Rotorcraft Directorate, FAA, 2601 Meacham Blvd., Fort Worth, Texas 76137; telephone 817-222-5110; email robert.grant@faa.gov.

SUPPLEMENTARY INFORMATION:

Discussion

On September 26, 2013, at 78 FR 59306, the Federal Register published our notice of proposed rulemaking (NPRM), which proposed to amend 14 CFR part 39 by adding an AD that would apply to Eurocopter France (Eurocopter) Model AS332C, AS332L, AS332 L1, and AS332 L2 helicopters with a hoist beam, Part Number (P/N) 330A87-2345-00, -01, -02, -03, -04, -05, or -06, installed with a single or double hoist plate; and Eurocopter Model SA330J helicopters with a hoist beam, P/N 330A87-2345-00, -01, -02, -03, -04, -05, or -06, installed with a single hoist plate. The NPRM proposed to prohibit use of the hydraulic hoist in helicopters equipped with certain parts and configurations until a hoist beam lower fitting protector was installed. The proposed requirements were intended to prevent the hoist cable from jamming and subsequent cable failure, which could result in injury and damage to the helicopter.

The NPRM was prompted by AD 2009-0271R1, dated July 8, 2011, issued by EASA, which is the Technical Agent for the Member States of the European Union, to correct an unsafe condition for Eurocopter Model AS332C, AS332C1, AS332L1, AS332L2 and SA330J helicopters with certain hoist beams installed. EASA advises that during a hoisting operation, a hydraulic hoist cable jammed against the base of the supporting strut of a dual hoist tray installation. According to EASA, the load was transferred to the back-up electrical hoist and safely brought on board. However, the jamming of the hydraulic hoist cable against the strut damaged the back-up electrical hoist power supply harness, which is routed through the area, resulting in a short circuit that fused and ruptured the cable. EASA reports that this condition, if not corrected, could lead to further incidents of hoist cable jamming and subsequent cable failure, which could result in personal injuries and damage to the helicopter.

Since we issued the NPRM, Eurocopter France has changed its name to Airbus Helicopters. This AD reflects that change and updates the contact information to obtain service documentation. We also corrected an error in the date of issue for Eurocopter Alert Service Bulletin No. 25.39 in the Required Actions paragraph and Differences section of this AD to reflect the correct date of July 6, 2011. We have corrected a math error in the total cost per helicopter for installation of the hoist beam lower fitting protector and short footstep with lower side protector for certain AS332 helicopters in the Cost section. Finally, we have corrected our Joint Aircraft Service Component Code in the Subject paragraph of this AD to 2500, Cabin Equipment/Furnishings.

Comments

We gave the public the opportunity to participate in developing this AD, but we received no comments on the NPRM (78 FR 59306, September 26, 2013).

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed except for the minor changes previously described. These changes are consistent with the intent of the proposals in the NPRM (78 FR 59306, September 26, 2013) and will not increase the economic burden on any operator nor increase the scope of the AD.

Differences Between This AD and the EASA AD

Our AD differs from the EASA AD as follows:

The EASA AD requires certain actions before the next flight, while we require the same actions before the next hoisting operation.

The EASA AD sets calendar dates for compliance that have since passed, while we set compliance based on hours time-in-service.

The EASA AD misidentifies the Eurocopter SA330J service bulletin number and paragraph number in its required actions for Model SA330J helicopters. This AD requires compliance with paragraph 2.B.4 of Eurocopter Emergency Alert Service Bulletin No. 25.39, Revision 3, dated July 6, 2011.

Related Service Information

Eurocopter issued one Emergency Alert Service Bulletin (EASB), Revision 3, dated July 6, 2011, with three different numbers. EASB No. 25.02.08 is for civil and military Model AS332-series helicopters; EASB No. 25.01.29 is for military Model AS532-series helicopters; and EASB No. 25.39 is for civil and military Model SA330-series helicopters. The EASB originally provided instructions to prevent the main hydraulic hoist cable from becoming jammed and damaged in the fixed fitting of the hoist beam lower fitting. The revisions add further instructions and expand the effectivity to more helicopters and helicopter equipment configurations. The revisions also extend some compliance deadlines, and revise some instructions to account for improved installation procedures. After further investigation, the most recent revisions remove some helicopter models from the list of applicable helicopters.

Costs of Compliance

We estimate that this AD affects 20 helicopters of U.S. Registry and that work hours average $85 an hour. Based on these estimates, we expect the following costs:

• The cost for installing and removing placards is minimal.

• Disabling the hoist pyrotechnic shear function requires 1 work-hour. No parts are needed for a cost of $85 per helicopter, $1,700 for the U.S. fleet.

• Installation of the hoist beam lower fitting protector for Model AS332 helicopters without a right hand (RH) sliding door and without a short footstep requires 6 work-hours for a labor cost of $510 per helicopter. Parts cost $4,760 for a total cost of $5,270 per helicopter.

• Installation of the hoist beam lower fitting protector and short footstep with lower side protector for Model AS332 helicopters without a RH sliding door and with a short footstep requires 12 work-hours for a labor cost of $1020 per helicopter. Parts cost $26,891 for a total cost of $27,911 per helicopter.

• Installation of the hoist beam protector for Model AS332 helicopters with a RH sliding door requires 3 work-hours for a labor cost of $255 per helicopter. Parts cost $20,858 for a total cost of $21,113 per helicopter.

• Installation of the hoist beam protector for Model SA330J helicopters requires 3 work-hours for a labor cost of $255 per helicopter. Parts cost $4,774 for a total cost of $5,029 per helicopter.

• Enabling the hoist pyrotechnic shear function requires 1 work-hour. No parts are needed for a cost of $85 per helicopter.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-05-15 Airbus Helicopters (Type Certificate Previously Held by Eurocopter France): Amendment 39-17788; Docket No. FAA-2013-0826; Directorate Identifier 2011-SW-046-AD.

(a) Applicability

(1) This AD applies to the following helicopters, certificated in any category:

(i) Model AS332C, AS332L, AS332 L1, and AS332 L2 helicopters with a hoist beam, Part Number (P/N) 330A87-2345-00, -01, -02, -03, -04, -05, or -06, installed with a single or double hoist plate; and

(ii) Model SA330J helicopters with a hoist beam, P/N 330A87-2345-00, -01, -02, -03, -04, -05, or -06, installed with a single hoist plate.

(b) Unsafe Condition

The unsafe condition is defined as hoist cable jamming and subsequent cable failure, which could result in injuries or damage to the helicopter.

(c) Effective Date

This AD becomes effective April 15, 2014.

(d) Compliance

You are responsible for performing each action required by this AD within the specified compliance time unless it has already been accomplished prior to that time.

(e) Required Actions

(1) Before the next hoist operation:

(i) For all helicopters, install a placard in full view of the hoist operator that states: IN CASE OF CABLE JAM AGAINST STRUT DO NOT ATTEMPT TO RAISE OR LOWER LOAD.

(ii) For helicopters with a hoist control electrical harness routed at the base of the hoist supporting strut:

(A) Disable the hoist pyrotechnic shear function.

(B) Install a placard on the instrument panel in full view of the flight crew that states: HOIST PYROTECHNIC SHEAR FUNCTION DISABLED.

(C) Install a placard in full view of the hoist operator that states: HOIST PYROTECHNIC SHEAR FUNCTION DISABLED. IN CASE OF NECESSITY, CUT THE HOIST CABLE WITH THE SHEARS LOCATED IN THE CABIN.

(iii) For helicopters listed in paragraph (a)(1)(i) of this AD with a tray-mounted double hoist installed with the back-up electrical hoist power supply harness routed at the base of the hoist supporting strut, do one of the following:

(A) Install a hoist beam lower fitting protector in accordance with the Accomplishment Instructions, paragraph 2.B.2.b of Eurocopter Emergency Alert Service Bulletin No. 25.02.08, Revision 3, dated July 6, 2011 (EASB No. 25.02.08), and if a short footstep, P/N 332P21-9000-00 or 332P21-2052-01, is installed, also install the short footstep with lower side protector in accordance with the Accomplishment Instructions, paragraph 2.B.2.c.2, of EASB No. 25.02.08; or

(B) Install two placards, one in full view of the flight crew and one in full view of the hoist operator, that state: IN-FLIGHT OPERATION OF THE HOIST IS PROHIBITED.

(2) Within 60 hours time-in-service:

(i) For helicopters listed in paragraph (a)(1)(i) of this AD without a tray-mounted double hoist installed with the back-up electrical hoist power supply harness routed at the base of the hoist supporting strut and without a right hand sliding door, P/N 332A22-1165-01, installed, do one of the following:

(A) Install a hoist beam lower fitting protecter in accordance with the Accomplishment Instructions, paragraph 2.B.2.b, of EASB No. 25.02.08 and if a short footstep, P/N 332P21-9000-00 or 332P21-2052-01, is installed, also install the short footstep with lower side protector in accordance with the Accomplishment Instructions, paragraph 2.B.2.c.2, of EASB No. 25.02.08; or

(B) Install two placards, one in full view of the flight crew and one in full view of the hoist operator, that state: IN-FLIGHT OPERATION OF THE HOIST IS PROHIBITED.

(ii) For helicopters listed in paragraph (a)(1)(i) of this AD with a right hand sliding door, P/N 332A22-1165-01, installed, do one of the following:

(A) Install a hoist beam lower fitting protector in accordance with the Accomplishment Instructions, paragraph 2.B.5, of EASB No. 25.02.08; or

(B) Install two placards, one in full view of the flight crew and one in full view of the hoist operator, that state: IN-FLIGHT OPERATION OF THE HOIST IS PROHIBITED.

(iii) For Model SA330J helicopters, do one of the following:

(A) Install a hoist beam lower fitting protector in accordance with the Accomplishment Instructions, paragraph 2.B.4, of Eurocopter Emergency Alert Service Bulletin No. 25.39, Revision 3, dated July 6, 2011; or

(B) Install two placards, one in full view of the flight crew and one in full view of the hoist operator, that state: IN-FLIGHT OPERATION OF THE HOIST IS PROHIBITED.

(3) For any helicopter that has been modified per paragraph (e)(1)(iii)(A), (e)(2)(i)(A), (e)(2)(ii)(A), or (e)(2)(iii)(A) of this AD, do the following before the next hoist operation:

(i) Re-establish the hoist pyrotechnic shear function if disabled per paragraph (e)(1)(ii)(A) of this AD.

(ii) Remove any placards if installed as required by paragraph (e)(1)(i), (e)(1)(ii)(B), (e)(1)(ii)(C), (e)(1)(iii)(B), (e)(2)(i)(B), (e)(2)(ii)(B), or (e)(2)(iii)(B) of this AD.

(f) Alternative Methods of Compliance (AMOCs)

(1) The Manager, Safety Management Group, FAA, may approve AMOCs for this AD. Send your proposal to: Robert Grant, Aviation Safety Engineer, Safety Management Group, Rotorcraft Directorate, FAA, 2601 Meacham Blvd., Fort Worth, Texas 76137; telephone 817-222-5110; email robert.grant@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) AD No. 2009-0271R1, dated July 8, 2011. You may view the EASA AD on the Internet at http://www.regulations.gov in Docket No. FAA-2013-0826.

(h) Subject

Joint Aircraft Service Component (JASC) Code: 2500, Cabin Equipment/Furnishings.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter Emergency Alert Service Bulletin No. 25.02.08, Revision 3, dated July 6, 2011.

(ii) Eurocopter Emergency Alert Service Bulletin No. 25.39, Revision 3, dated July 6, 2011.

Note 1 to paragraph (i)(2): Eurocopter Emergency Alert Service Bulletin (EASB) No. 25.02.08 and Eurocopter EASB No. 25.39, both Revision 3, and both dated July 6, 2011, are co-published as one document along with Eurocopter EASB No. 25.01.29, Revision 3, dated July 6, 2011, which is not incorporated by reference in this AD.

(3) For Eurocopter service information identified in this AD, contact Airbus Helicopters, Inc., 2701 N. Forum Drive, Grand Prairie, TX 75052; telephone (972) 641-0000 or (800) 232-0323; fax (972) 641-3775; or at http://www.airbushelicopters.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on February 26, 2014.
Bruce E. Cain,
Acting Directorate Manager, Rotorcraft Directorate, Aircraft Certification Service.

[FR Doc. 2014-04724 Filed 3-10-14; 8:45 am]

BILLING CODE 4910-13-P